COMMISSION ON CIVIL RIGHTS

Notice of Public Meetings of the West Virginia Advisory Committee to the U.S. Commission on Civil Rights

AGENCY: U.S. Commission on Civil Rights.

ACTION: Notice of meetings.

SUMMARY: Notice is hereby given, pursuant to the provisions of the rules and regulations of the U.S. Commission on Civil Rights (Commission) and the Federal Advisory Committee Act, that the West Virginia Advisory Committee (Committee) to the U.S. Commission on Civil Rights will hold a series of planning meetings via web conference. The purpose of these meetings is to discuss and plan matters related to the Committee's civil rights project on the civil rights impact of WV public school disciplinary policies, practices and procedures on students of color, students with disabilities and LGBTA+ students.

DATES:

• Thursday, April 6, 2023, from 3:00 p.m.-4:00 p.m. ET

• Thursday, May 4, 2023, from 3:00 p.m.-4:00 p.m. ET

• Thursday, June 1, 2023, from 3:00 p.m.-4:00 p.m. ET

• Thursday, July 6, 2023, from 3:00 p.m.-4:00 p.m. ET

• Thursday, August 3, 2023, from 3:00 p.m.-4:00 p.m. ET

• Thursday, September 7, 2023, from 3:00 p.m.-4:00 p.m. ET

• Thursday, October 5, 2023, from 3:00 p.m.-4:00 p.m. ET

• Thursday, November 2, 2023, from 3:00 p.m.-4:00 p.m. ET

ADDRESSES: The meetings will be held via Zoom.

Meeting Link (Audio/Visual): https://www.zoomgov.com/j/1603603569.

Join by Phone (Audio Only): Dial: 1-833-435-1820 USA Toll Free; Meeting ID: 160 360 3569#.

FOR FURTHER INFORMATION CONTACT: Ivy Davis, DFO, at idavis@usccr.gov.

SUPPLEMENTARY INFORMATION: Committee meetings are available to the public through the meeting link or telephone number listed above. Any interested member of the public may listen to the meeting. An open comment period will be provided to allow members of the public to make a statement as time allows. If joining via phone, callers can expect to incur regular charges for calls they initiate over wireless lines, according to their wireless plan. The Commission will not refund any incurred charges. Live transcription will be available for individuals who are deaf, hard of hearing, or who have certain cognitive or learning impairments. To request additional accommodations, please email svillanueva@usccr.gov at least ten (10) days prior to the meeting.

Members of the public are also entitled to submit written comments; the comments must be received within 30 days following the meeting. Written comments may be emailed to Sarah Villanueva at svillanueva@usccr.gov. Persons who desire additional information may call the Regional Programs Unit at 1-202-769-2843.

Records generated from this meeting may be inspected and reproduced at the Regional Programs Coordination Unit Office, as they become available, both before and after the meeting. Records of the meeting will be available via www.facadatabase.gov under the Commission on Civil Rights, West Virginia Advisory Committee link. Persons interested in the work of this Committee are directed to the Commission's website, https://www.usccr.gov, or may contact the Regional Programs Coordination Unit at the above email.

Agenda

I. Meeting Announcement & Roll Call

II. Welcome

III. Project Planning

IV. Other Business

V. Next Meeting

VI. Public Comment

VII. Adjourn

Exceptional Circumstance: Pursuant to 41 CFR 102-3.150, the notice for this meeting is given fewer than 15 calendar days prior to the meeting because of the staffing shortage.

Dated: March 30, 2023.
David Mussatt,
Supervisory Chief, Regional Programs Unit.

[FR Doc. 2023-06965 Filed 4-3-23; 8:45 am]

BILLING CODE P